DEPARTMENT OF THE INTERIOR

National Park Service

National Register of Historic Places; Notification of Pending Nominations and Related Actions

Nominations for the following properties being considered for listing or related actions in the National Register were received by the National Park Service before December 20, 2008.

Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington DC 20005; or by fax, 202-371-6447. Written or faxed comments should be submitted by January 20, 2009.

J. Paul Loether,
Chief, National Register of Historic Places/National Historic Landmarks Program.

ARKANSAS

Hempstead County

Southwestern Proving Ground Building No. 129, (World War II Home Front Efforts in Arkansas, MPS) 195 Hempstead Co. Rd. 279, Hope, 08001373

Nevada County

Camden to Washington Road-Rosston Segment, Nevada Co. Rd. 10, Rosston, 08001374

COLORADO

Boulder County

Arnett-Fullen House, 646 Pearl St., Boulder, 08001376

Grand County

Barger Gulch Locality B, Address Restricted, Kremmling, 08001377

CONNECTICUT

Litchfield County

Lime Rock Park, 497 Lime Rock Rd., Salisbury, 08001380

New Haven County

Medad Stone Tavern, 197 Three Mile Course, Guilford, 08001378

New London County

House at 130 Mohegan Avenue, 130 Mohegan Ave., New London, 08001379

DISTRICT OF COLUMBIA

District of Columbia

First African New Church, 2105-07 10th St., NW., Washington, DC, 08001375

IOWA

Jones County

Anamosa Main Street Historic District, 200-300 block W. Main St., 100 block E. Main St., 100 block N. and S. Ford St., 100 block N. Garnavillo St., Anamosa, 08001381

Page County

Iowan's Hotel, 508 E. Railroad St., Essex, 08001382

MISSOURI

Adair County

Smith, Dr. E. Sanborn, House, 111 E. Patterson St., Kirksville, 08001385

Buchanan County

Buchanan County Infirmary, 3500 N. Village Dr., Saint Joseph, 08001386

Jackson County

Dierks Building, 1000-1006 Grand Blvd., Kansas City, 08001387

MONTANA

Chouteau County

Eagle Butte School, Eagle Butte School Rd., 23 mi. off MT 80, Fort Benton, 08001383

Fergus County

Hagadone, Frank, Homestead, Missouri River, Mile No. 97, Fergus County, 08001384

NEVADA

Clark County

Walking Box Ranch, 6333 W. NV 164, Searchlight, 08001392

NORTH CAROLINA

Wake County

Welles, Paul and Ellen, House, 3227 Birnamwood Rd., Raleigh, 08001388

Watauga County

Miller, John Smith, House, 561 Chestnut Grove Rd., Boone, 08001389

Wilkes County

Hubbard, Benjamin, House, US 18 on the N., one mile E. of NC 1106, Moravian Falls, 08001390

Yancey County

Bald Creek Historic District, Both sides of Bald Creek School Rd., 76-239 Pleasant Valley Rd., and 6193-6195 U.S. 19E, Burnsville, 08001391

OREGON

Multnomah County

Bunyan, Paul, Statue, SW. corner of N. Denver Ave. and N. Interstate Ave., Portland, 08001393

SOUTH CAROLINA

Clarendon County

Liberty Hill A.M.E. Church, 2310 Liberty Hill Rd., Summerton, 08001394

Orangeburg County

Providence Methodist Church, 4833 Old State Rd., Holly Hill, 08001395

Richland County

Columbia Central Fire Station, 1001 Senate St., Columbia, 08001396

Pine Grove Rosenwald School, (Rosenwald School Building Program in South Carolina, 1917-1932) 937 Piney Woods Rd., Columbia, 08001397

Wesley Methodist Church, (Segregation in Columbia, South Carolina MPS) 1727 Gervais St., Columbia, 08001398

Woman's Club of Columbia, The, 1703 Blossom St., Columbia, 08001399

TEXAS

Tarrant County

Fort Worth Botanic Garden, 3220 Botanic Garden Blvd., Fort Worth, 08001400

WEST VIRGINIA

Berkeley County

Davis-Keesecker House, 3337 Little Georgetown Rd., Hedgesville, 08001401

Deck, John William, House, 1139 VanClevesville, VanClevesville, 08001402

Orndoff-Cross House, 6 Winebrenner Rd., Martinsburg, 08001403

Jefferson County

Bullskin Run Historic District, Along Bullskin Run, including portions of Summit Point Rd., Vermeer Rd., Lloyd Rd., Wheatland Rd., and Berryville Pike, Charles Town, 08001404

Orndoff-Cross House, 6 Winebrenner Rd., Martinsburg, 08001403

Request for removal has been made for the following resources:

FLORIDA

Volusia County

Halifax Drive Historic District, Roughly along Halifax Dr. From Dunlawton to Herbert Sts., Port Orange, 98000056

[FR Doc. E8-31387 Filed 1-2-09; 8:45 am]

BILLING CODE 4312-51-P